DEPARTMENT OF TRANSPORTATION

Maritime Administration

Maritime Security Act of 2003, Subtitle D—National Defense Tank Vessel Construction Assistance

AGENCY: Maritime Administration, DOT.

ACTION: Notice of conference call.

SUMMARY: The purpose of the notice is to advise interested parties of a conference call to be hosted by the Maritime Administration to address certain issues regarding the Request for Competitive Proposals (RFP) for the construction of up to five new tank vessels. The RFP is available on the Internet at http://www.fedbizopps.gov and http://www.marad.dot.gov and hard copies of the RFP are available in the Office of the Secretary, Maritime Administration.

FOR FURTHER INFORMATION CONTACT: Gregory V. Sparkman or Edmond J. Fitzgerald, Office of Insurance and Shipping Analysis, Maritime Administration, Room 8117, 400 Seventh Street, SW., Washington, DC 20590; Telephone: (202) 366-2400; Fax: (202) 366-7901.

SUPPLEMENTARY INFORMATION: On February 20, 2004, the Maritime Administration formally solicited competitive RFPs for the construction of up to five new product tank vessels necessary to meet the commercial and national security needs of the United States and to be built with assistance under subtitle D of the Maritime Security Act of 2003. In response to certain questions raised by industry representatives, the Maritime Administration has decided to host a public conference call to provide additional information, have further discussion and answer any outstanding questions related to the new tanker program. The conference call is open to all interested parties and will be held on May 26, 2004 in two parts:

• From 3:30 to 4:30 p.m. for vessel owners/operators

• From 4:30 to 5:30 p.m. for shipyards

To participate, contact Edmond Fitzgerald or Greg Sparkman at (202) 366-2400 for specific instructions. Please note that each call is limited to 30 participants.

Authority: 49 CFR 1.66

By Order of the Maritime Administrator
Dated: May 19, 2004.
Joel C. Richard,
Secretary, Maritime Administration.

[FR Doc. 04-11746 Filed 5-24-04; 8:45 am]

BILLING CODE 4910-81-P